DEPARTMENT OF THE INTERIOR

Bureau of Indian Affairs

[134D0102DRDS5B800000DR.5B811.IA000913DLB000000.000000]

Grant Program To Build Tribal Energy Development Capacity

AGENCY: Bureau of Indian Affairs, Interior.

ACTION: Solicitation of Proposals.

SUMMARY: The Secretary of the Interior (Secretary), through the Office of Indian Energy and Economic Development (IEED), is soliciting grant proposals from Indian tribes for projects to build tribal capacity for energy resource development under the Department of the Interior's (DOI) Tribal Energy Development Capacity (TEDC) grant program. Under the Energy Policy Act of 2005 (Act), Congress appropriates funds on a year-to-year basis to DOI for grants of funds to Indian tribes for use in assessing, developing, and obtaining the managerial and technical capacity needed to develop energy resources on Indian land and properly account for energy resource production and revenues. We will use a competitive evaluation process based on criteria stated in the Supplementary Information section of this notice to select projects for funding awards.

DATES: Submit grant proposals by February 18, 2014. Grant proposals must be postmarked by this date or they may not be considered.

ADDRESSES: Mail or hand-carry grant proposals to the Department of the Interior, Office of Indian Energy & Economic Development, Attention: Ashley Stockdale, 1951 Constitution Ave. NW., MS 20-SIB, Washington, DC 20245, or email to Ashley Stockdale at Ashley.Stockdale@bia.gov.

FOR FURTHER INFORMATION CONTACT: If you have questions about the TEDC program, or have technical questions about the tribal energy resource capacity you wish to develop, please contact David B. Johnson at the Office of Indian Energy and Economic Development, 1951 Constitution Avenue NW., MS 20-SIB, Washington, DC 20245, telephone 202-208-3026, fax 202-208-4564, email DavidB.Johnson@bia.gov.

SUPPLEMENTARY INFORMATION:

A. Background

IEED implements the Indian Energy Resource Development Program under Title V of the Energy Policy Act of 2005 to assist Indian tribes in the development of energy resources and further the goal of Indian self-determination. This includes the TEDC grant program for the benefit of Indian tribes that wish to build capacity to develop conventional or renewable energy resources on Indian lands. The TEDC grant program helps tribes in assessing, developing, or obtaining the managerial and technical capacity needed to develop energy resources on Indian land and to properly account for resulting energy production and revenues, as provided for in Title V, Section 503, of the Energy Policy Act.

Title V, Section 503 of the Act also amended Title XXVI (Indian Energy) of the Energy Policy Act of 1992 to provide for Tribal Energy Resource Agreements (TERAs). TERAs are agreements between federally-recognized Indian tribes and the Secretary of the Interior that allow the tribe, at its discretion, to enter into leases, business agreements, and rights-of-way for energy resource development on tribal lands without further review and approval by the Secretary. The Act and the implementing regulations provide that the Secretary must determine that a tribe has the capacity to regulate the development of its energy resource(s) before approving a TERA. TEDC grants are, therefore, particularly useful to tribes that may wish to pursue a TERA, since the funds are used to help fulfill one of the key requirements for TERA approval—demonstrating capacity to perform the administrative and technical functions included in a TERA. Tribes that are not considering entering into a TERA may also benefit from a TEDC grant for energy resource development on Indian land under other options available to tribes, such as Indian Mineral Development Agreements or self-determination contracts or compacts.

The information collection requirements contained in this notice have been reviewed and approved by the Office of Management and Budget (OMB) under the Paperwork Reduction Act, 44 U.S.C. 3504(h). The OMB control number is 1076-0177. The authorization expires on July 31, 2014.

General Requirements for TEDC Grant Proposals

1. TEDC grant proposals must be submitted to IEED in digital format and postmarked by the date in the DATES section.

2. Proposals should be presented succinctly, yet in enough detail to allow the TEDC grant evaluation team to quickly and thoroughly understand the purpose, scope and objectives of the proposal.

3. Projects proposed under the TEDC grant program must be capable of being completed within one year of a grant award.

4. TEDC grant projects may not duplicate previous or ongoing energy resource development capacity building projects.

5. TEDC grant projects may not include any activities that duplicate efforts of other projects for which federal funds have previously been awarded.

6. Tribes currently under Bureau of Indian Affairs sanction resulting from non-compliance with the Single Audit Act may be ineligible for consideration of a grant award.

7. TEDC grant proposals will be deemed incomplete, or, at a minimum, points will be deducted, if all mandatory components are not included.

B. Purposes of TEDC Grants

TEDC grants are intended to help Indian tribes and tribal energy resource development organizations meet the following goals as they relate to assessing, developing, or obtaining tribal energy resource development capacity for energy resource(s) they intend to or are developing on Indian land:

1. Determine the current level of the tribe's or tribal energy resource development organization's technical, administrative, or management capacity for identified energy resource development activities;

2. Determine which technical, administrative, or management capacities for tribal energy resource development need enhancement;

3. Determine what process(es) and/or procedure(s) may be used to eliminate capacity gaps or obtain the development of energy resource development capacity (including training and policy and code development);

4. Determine how the process(es) and/or procedure(s) identified in paragraph (c) will be implemented.

C. Definitions for Purpose of TEDC Grants

1. Indian Tribe. The term “Indian tribe” for purposes of this announcement means any Indian tribe, band, nation, or other organized group or community, including any Alaska Native village or regional or village corporation as defined in or established pursuant to the Alaska Native Claims Settlement Act (85 Stat. 688) [43 U.S.C. 1601 et seq.], which is recognized as eligible for the special programs and services provided by the United States to Indians because of their status as Indians;

2. Tribal Energy Resource Development Organization. The term “tribal energy resource development organization” for purposes of this announcement means an organization of two or more entities, at least one of which is an Indian tribe, that has the written consent of the governing bodies of all Indian tribes participating in the organization to apply for a grant, loan, or other assistance under 25 U.S.C. 3502.

3. Indian land. The term “Indian land” for the purposes of this announcement means:

(a) Any land located within the boundaries of an Indian reservation, pueblo, or rancheria;

(b) any land not located within the boundaries of an Indian reservation, pueblo, or rancheria, the title to which is held:

(i) In trust by the United States for the benefit of an Indian tribe or an individual Indian;

(ii) by an Indian tribe or an individual Indian, subject to restriction against alienation under laws of the United States; or

(iii) by a dependent Indian community; and

(c) land that is owned by an Indian tribe and was conveyed by the United States to a Native Corporation pursuant to the Alaska Native Claims Settlement Act (43 U.S.C. 1601 et seq.), or that was conveyed by the United States to a Native Corporation in exchange for such land.

D. Activities Eligible for TEDC Grant Funding

Examples of activities eligible for TEDC grants include, but are not limited to, assessing or determining how to develop or obtain the tribe's or tribal energy resources development organization's capacity for:

• Reviewing proposals for leases, business agreements, or rights-of-way;

• Negotiating and reviewing leases, business agreements, or rights-of-way;

• Evaluating the environmental effects of energy resource development projects the applicant may enter into, including those related to cultural resources;

• Monitoring the compliance of a third party with the terms and conditions of any leases, business agreements, and rights of-way the applicant may enter into;

• Establishing or managing energy development-related departments or administrative divisions within the tribe or tribal energy resource development organization;

• Providing for energy development-related technical, scientific, and/or engineering expertise within the tribe or tribal energy resource development organization;

• Developing or enhancing tribal policies, codes, regulations, or ordinances related to regulating energy resource development; and

• Accounting for energy resource production and revenues.

E. Activities Ineligible for TEDC Grant Funding

• Feasibility studies and energy resource assessments;

• Purchase of resource assessment data;

• Research and development of speculative or unproven technologies;

• Purchase or lease of equipment for the development of energy resources;

• Payment of fees or procurement of any services associated with energy assessment or exploration or development activity;

• Payment of tribal salaries for employees not directly involved in conducting the assessment project and payment of salaries beyond the one-year project;

• Establishment or operation of a tribal office or purchasing office equipment not specific to the capacity building project;

• Indirect costs and overhead as defined by the Federal Acquisition Regulations (FAR);

• Purchase or lease of project equipment such as computers, vehicles, field gear, etc;

• Legal fees;

• Contract negotiation fees; and

• Any other activities not authorized by the tribal resolution or by the approved proposal.

F. TEDC Grant Proposal Mandatory Components

Component 1—Tribal Resolution

Provide a current tribal resolution or other formal official action of the tribe's governing entity or tribal energy resource development organization. This document should be signed by a duly authorized tribal official representing the tribe's governing body or evidence of the authority of a tribal energy resource development organization to apply for grants.

Component 2—TEDC Grant Project Description

(a) Applicant point of contact, including name, title, mailing address, telephone and fax numbers, and email address;

(b) Name and title of responsible party(ies) for technical execution and administration of the project;

(c) Amount of funding requested for the project;

(d) Description of the identified energy resource(s);

(e) Scope of work describing the proposed project, including: Capacity areas related to the identified energy resource on which the proposal's assessment(s) will focus and the approach and justification of the approach to be used in assessing, developing, or sustaining the tribe's or tribal energy resource development organization's capacity to manage energy resource development activities and to determine next steps to be taken to eliminate any identified capacity gaps;

(f) Objectives of the proposal describing how the proposed project will contribute to the tribe's or tribal energy resource development organization's capacity (in assessing, developing or obtaining particular identified areas to be included in the project);

(g) Method of measurement of meeting stated objectives of the proposed project, including data collection and analysis;

(h) Description of deliverable products the proposed project will generate;

(i) Completion date for proposed project, date for interim progress report, and date for final report (see Section I—Post-Award Requirements below);

(j) Resumes of key personnel (tribal or tribal energy resource development organization's employees, consultants, subcontractors) who will work on the proposed project, including information on expertise; and

(k) Description of the tribe's or tribal energy resource development organization's current staff and/or tribal financial resources the applicant plans to apply to performance or completion of the objectives in its TEDC grant proposal.

Component 3—Existing and Prior Energy Resource Development Experience

(a) Description and examples of the tribe's or tribal energy resource development organization's experience with energy resource development activities, including any previous or current capacity assessment and energy resource assessment, feasibility studies, exploration for or development of specific energy resource(s);

(b) Description of the tribe's or tribal energy resource development organization's experience and level of existing capacity to manage and regulate energy resource development in areas including, but not limited to:

(1) Land and lease management (including evaluation, negotiation, and enforcement of terms);

(2) Technical, scientific, and engineering evaluation;

(3) Financial and revenue management;

(4) Production accounting;

(5) Environmental review, monitoring, compliance, and enforcement;

(6) Regulatory monitoring (federal, state, and tribal environmental and safety regulations); and

(7) Tribal environmental code, regulation, or ordinance development or enhancement.

(c) List of all previous or on-going energy resource development capacity building projects for which the tribe or tribal energy resource development organization has received Federal funds, the source or the funds (e.g., Department of Energy, U.S. Department of Agriculture, U.S. Environmental Protection Agency, or Department of the Interior), the year(s) for which funds were awarded, and whether such projects were completed and completion dates.

Component 4—Planned Energy Resource Development

(a) Description of the tribe's or tribal energy resource development organization's planned energy resource development activities including energy plan, capacity assessment, energy resource assessment, feasibility studies, exploration for or development of specific energy resource(s); and

(b) Description of the tribe's or tribal energy resource development organization's plans for managing energy resource development and growth (including plans to develop or enhance tribal offices or independent tribal business entities related to energy resource development, if any).

Component 5—Detailed Budget Estimate

(1) Provide a detailed, line-by-line budget, including all projected and anticipated expenditures under the TEDC grant proposal, covering the amount of funding requested.

(2) Provide in the budget a breakdown for the proposal's line items that involve several components or contain numerous sub-functions to include, at a minimum:

(a) Itemized costs for all contracted personnel and consultants, their respective positions and time (staff hour) allocations for the proposed functions of the project or part(s) of the project;

(b) documentation of professional qualifications necessary to perform the work for tribal personnel to be funded and attach position descriptions;

(c) documentation that clearly identifies the qualifications and utilization of any proposed consultants;

(d) itemized consultant fees and include a line item breakdown of costs associated with each consultant activity. If a consultant is to be hired for a fixed fee, itemize the consultant's expenses as part of the project budget;

(e) itemized travel estimates by airfare, vehicle rental, training and conference fees (if any), and lodging and per diem, based on the current Federal Government per diem schedule;

(f) itemized data collection and analysis costs in sufficient detail for the IEED TEDC grant evaluation team to evaluate the proposed expenses; and

(g) other expenses such as computer and other equipment rental, report generation, drafting, and advertising costs for a proposal.

G. Evaluation and Ranking Criteria

The IEED TEDC grant evaluation team will review and evaluate grant proposals on a 100 point system based on the following factors (Mandatory Component 1, the Tribal Resolution will not be evaluated):

(1) Mandatory Component 2—TEDC Grant Project Description—30 points

The IEED TEDC grant evaluation team will use the grant project description objectives, measurement methods, deliverables, and commitment of Indian tribe or tribal energy resource development organization and/or resources to the project as part of its evaluation of the project proposal to determine how likely the project is to result in quantifiable results to the applicant in terms of capacity building to benefit its future energy resource development.

(2) Mandatory Component 3—Existing and Prior Energy Resource Development Experience—20 points

The IEED TEDC grant evaluation team will use the tribe's or tribal energy resource development organization's existing and prior energy resource development experience as part of its evaluation of the project proposal to determine the applicant's current level of capacity. Prior or current energy resource development will not, by itself, result in fewer or more assigned points. Please include an accurate description of the applicant's baseline capacity.

(3) Mandatory Component 4—Planned Energy Resource Development—25 points

The IEED TEDC grant evaluation team will use the tribe's or tribal energy resources development organization's planned energy resource development as part of its evaluation of the project proposal to determine the applicant's potential for proceeding with planned energy resource development, whether or not it has prior or current energy resource development experience.

(4) Mandatory Component 5—Detailed Budget Estimate—25 points

The IEED TEDC grant evaluation team will use the budget proposal as part of its evaluation of the project to determine whether the budget is reasonable and can produce the results outlined in the proposal under Mandatory Component 2. A TEDC grant proposal budget that includes sound budget projections directly related to the project objectives will receive a more favorable ranking than those proposals that fail to provide appropriate budget projections or that fail to reasonably relate budget projections to the project objectives.

H. Award Notification Process

1. The TEDC grant evaluation team will forward the ranked proposals to the Director of IEED for approval.

2. The Director will notify in writing tribes and tribal energy development organizations of selection or non-selection of proposals for awards.

I. Funding and Transfer of Funds

Our obligation under this solicitation is contingent on receipt of congressionally appropriated funds. No liability on the part of the U.S. Government for any payment may arise until funds are made available to the Contracting Officer for this grant and until the recipient receives notice of such availability, to be confirmed in writing by the Contracting Officer.

All Payments under this agreement will be made by the U.S. Government by electronic funds transfer (through the Treasury Fedline Payment System (FEDLINE)). The recipient must submit an official invoice to the Bureau of Indian Affairs, Division of Fiscal Services, 12220 Sunrise Valley Drive, Reston, VA 20191. After the invoice is reviewed and approved, payment will be processed. Invoices should be based on progress and should not be submitted more than once a month. All payments will be deposited in accordance with the banking information designated for the applicant in the System for Award Management (SAM).

J. Post-Award Requirements

Applicants awarded grants for TEDC projects must adhere to the following requirements:

1. Expend TEDC grant funds only on approved project functions. Tribes and tribal energy resource development organizations are subject to forfeiture of any remaining funds in the project year as well as sanctions against award of any future year TEDC grant funding for expenditures which are not approved;

2. Prepare and submit an interim report (which may consist of a summary of events, accomplishments, problems, and/or results) to the IEED project coordinator by the date the applicant states in its TEDC grant project description;

3. Complete the TEDC project within one year of the award date;

4. Prepare and submit a final report, including all deliverable products generated by the TEDC project within two weeks of completion of the TEDC project or the anniversary of the award date, whichever comes first; and

5. Provide all reports and deliverable products and data generated by the TEDC project to IEED by providing one digital form and two printed copies to IEED at: TEDC Project Coordinator, IEED, U.S. Department of the Interior, 1951 Constitution Avenue NW, South Interior Building—Room 20, Washington, DC 20245.

K. Submission of Proposal

Submit proposals in digital form to the following electronic address: Ashley.Stockdale@bia.gov. Save files with filenames that clearly identify the file being submitted. File extensions must clearly indicate the software application used for preparation of the documents, (i.e., wpd, doc, pdf). Documents requiring an original signature, such as cover letters, tribal resolutions, or other letters of tribal authorization, must also be submitted in paper form to: ATTN: Tribal Energy Development Capacity Proposal, TEDC Project Coordinator, U.S. Department of the Interior, 1951 Constitution Avenue NW., South Interior Building—Room 20, Washington, DC 20245.

Dated: December 6, 2013.
Kevin K. Washburn,
Assistant Secretary—Indian Affairs.

[FR Doc. 2013-30281 Filed 12-19-13; 8:45 am]

BILLING CODE 4310-4M-P